DEPARTMENT OF ENERGY

10 CFR Part 430

[Docket No. EERE-2011-BT-DET-0072]

RIN 1904-AC66 and 1904-AC51

Energy Conservation Program for Consumer Products and Certain Commercial and Industrial Equipment: Supplemental Proposed Determination of Miscellaneous Refrigeration Products as Covered Products

AGENCY: Office of Energy Efficiency and Renewable Energy, Department of Energy.

ACTION: Notice of proposed rulemaking; supplemental notice of proposed determination.

SUMMARY: The U.S. Department of Energy (DOE) is proposing to treat certain miscellaneous refrigeration products (MREFs), which include coolers and combination cooler refrigeration products, as covered products under Part A of Title III of the Energy Policy and Conservation Act (EPCA), as amended. This supplemental proposed determination would modify DOE's initial proposed scope of those products that would be considered MREFs presented in its earlier proposed determinations. As part of this supplemental proposed determination, DOE is also proposing specific definitions of the product categories that would fall within the MREF product type. In addition, DOE is proposing to amend its current definitions for refrigerators, refrigerator-freezers, and freezers to help clarify the distinctions between the proposed covered product definitions for MREFs. The proposed amendments to these definitions (for refrigerators, refrigerator-freezers, and freezers) would not alter the scope or intent of the current definitions, other than for those products that would newly be covered as combination cooler refrigeration products.

DATES: DOE will accept written comments, data, and information on this document, but no later than April 4, 2016.

The coverage and definitions proposed in this document would be effective 30 days after publication of any final coverage determination in the Federal Register. After that date, products within the scope of MREF coverage would be subject to any applicable test procedures and energy conservation standards established for MREFs.

ADDRESSES: This rulemaking can be identified by docket number EERE-2011-BT-DET-0072 and/or Regulatory Information Number (RIN) 1904-AC66 and 1904-AC51.

Interested persons are encouraged to submit comments using the Federal eRulemaking Portal at http://www.regulations.gov. Follow the instructions for submitting comments. Alternatively, interested persons may submit comments, identified by docket number, EERE-2011-BT-DET-0072 by any of the following methods:

• Email: to Non-CompressorResRefrigProd-2011-DET-0072@ee.doe.gov. Include EERE-2011-BT-DET-0072 in the subject line of the message.

• Mail: Ms. Brenda Edwards, U.S. Department of Energy, Building Technologies Office, Mailstop EE-5B, 1000 Independence Avenue SW., Washington, DC 20585- 0121. Phone: (202) 586-2945. Please submit one signed paper original.

• Hand Delivery/Courier: Ms. Brenda Edwards, U.S. Department of Energy, Building Technologies Program, 6th Floor, 950 L'Enfant Plaza SW., Washington, DC 20024. Phone: (202) 586-2945. Please submit one signed paper original.

All submissions received must include the agency name and docket number or RIN for this rulemaking.

Docket: For access to the docket to read background documents or comments received, go to the U.S. Department of Energy, 6th Floor, 950 L'Enfant Plaza SW., Washington, DC 20024, (202) 586-2945, between 9:00 a.m. and 4:00 p.m., Monday through Friday, except Federal holidays. Please call Ms. Brenda Edwards at (202) 586-2945 for additional information regarding visiting the Resource Room.

FOR FURTHER INFORMATION CONTACT: Mr. Joseph Hagerman, U.S. Department of Energy, Office of Energy Efficiency and Renewable Energy, Building Technologies Office, EE-5B, 1000 Independence Avenue SW., Washington, DC 20585-0121. Telephone: (202) 586-0371. Email: Joseph.Hagerman@ee.doe.gov.

In the Office of General Counsel, contact Mr. Michael Kido, U.S. Department of Energy, Office of the General Counsel, GC-33, 1000 Independence Avenue SW., Washington, DC 20585-0121. Telephone: (202) 586-8145. Email: Michael.Kido@doe.gov.

For further information on how to review public comments, contact Ms. Brenda Edwards at (202) 586-2945 or by email: Brenda.Edwards@ee.doe.gov.

SUPPLEMENTARY INFORMATION:

Table of Contents

I. Statutory Authority

II. Current Rulemaking Process

III. Scope of Coverage

IV. Evaluation of Miscellaneous Refrigeration Products as Covered Products

A. Coverage Necessary or Appropriate To Carry Out Purposes of EPCA

B. Energy Use Estimates

1. Coolers

2. Combination Cooler Refrigeration Products

3. Conclusions

V. Product Definitions

A. Coolers

B. Combination Cooler Refrigeration Products

C. Refrigerators, Refrigerator Freezers, and Freezers

D. General Terms for the Groups of Products Addressed in This Document

VI. Procedural Issues and Regulatory Review

A. Review Under Executive Order 12866

B. Review Under the Regulatory Flexibility Act

C. Review Under the Paperwork Reduction Act of 1995

D. Review Under the National Environmental Policy Act of 1969

E. Review Under Executive Order 13132

F. Review Under Executive Order 12988

G. Review Under the Unfunded Mandates Reform Act of 1995

H. Review Under the Treasury and General Government Appropriations Act of 1999

I. Review Under Executive Order 12630

J. Review Under the Treasury and General Government Appropriations Act of 2001

K. Review Under Executive Order 13211

L. Review Under the Information Quality Bulletin for Peer Review

VII. Public Participation

A. Submission of Comments

B. Issues on Which DOE Seeks Comments

I. Statutory Authority

Title III of the Energy Policy and Conservation Act (EPCA or the Act), as amended (42 U.S.C. 6291 et seq.), sets forth various provisions designed to improve energy efficiency. Part A of Title III of EPCA (42 U.S.C. 6291-6309) established the “Energy Conservation Program for Consumer Products Other Than Automobiles,” which covers consumer products and certain commercial products (hereafter referred to as “covered products”).¹

¹ For editorial reasons, upon codification in the U.S. Code, Part B was re-designated Part A.

EPCA specifies a list of covered consumer products that includes refrigerators, refrigerator-freezers, and freezers. Although EPCA did not define any of these products, it specified that the extent of DOE's coverage would apply to those refrigerator, refrigerator-freezers, and freezers that can be operated by alternating current (AC) electricity, are not designed to be used without doors, and include a compressor and condenser as an integral part of the cabinet assembly. (42 U.S.C. 6292(a)(1)) EPCA did not preclude or otherwise foreclose the possibility that other consumer refrigeration products, such as those consumer refrigeration products addressed in this notice, could also be covered if they satisfy certain prerequisites. Those prerequisites, when met, permit the Secretary of Energy to classify additional types of consumer products as covered products. For a given product to be classified as a covered product, the Secretary must determine that:

(1) Classifying the product as a covered product is necessary for the purposes of EPCA; and

(2) the average annual per-household energy use by products of such type is likely to exceed 100 kilowatt-hours per year (kWh/yr). (42 U.S.C. 6292(b)(1))

When attempting to cover additional product types, DOE must first determine whether these criteria from 42 U.S.C. 6292(b)(1) are met. Once they have been satisfied, the Secretary may set standards for these additional products, subject to the provisions in 42 U.S.C. 6295(o) and (p), provided that DOE determines the four criteria of 42 U.S.C. 6295(l) have been met. First, the average per household energy use within the United States by the products of such type (or class) exceeded 150 kilowatt-hours (kWh) (or its British thermal unit (Btu) equivalent) for any 12-month period ending before such determination. Second, the aggregate household energy use within the United States by products of such type (or class) exceeded 4,200,000,000 kWh (or its Btu equivalent) for any such 12-month period. Third, a substantial improvement in the energy efficiency of products of such type (or class) is technologically feasible. And fourth, the application of a labeling rule under 42 U.S.C. 6294 to such type (or class) is not likely to be sufficient to induce manufacturers to produce, and consumers and other persons to purchase, covered products of such type (or class) that achieve the maximum energy efficiency that is technologically feasible and economically justified. (42 U.S.C. 6295(l)(1)) This determination would be made prior to DOE's setting of energy conservation standards for the product at issue.

In addition, if DOE issues a final determination that a given product—such as a miscellaneous refrigeration product or “MREF”—is a covered product, DOE will consider adopting test procedures to measure its energy efficiency and determine if the required criteria of 42 U.S.C. 6295(l)(1) are met prior to setting any energy conservation standards for that product. DOE has already started the rulemaking processes for both the test procedures and the standards for MREFs.²

² On www.regulations.gov, see docket ID EERE-2011-BT-STD-0043 for information regarding the energy conservation standards rulemaking and docket ID EERE-2013-BT-TP-0029 for information regarding the test procedure rulemaking.

II. Current Rulemaking Process

On November 8, 2011, DOE published a notice of proposed determination of coverage (NOPD) to address the potential coverage of consumer refrigeration products without compressors in anticipation of a rulemaking to address these and related consumer refrigeration products. 76 FR 69147.

On February 23, 2012, DOE began a scoping process to set potential energy conservation standards and test procedures for wine chillers, consumer refrigeration products that operate without compressors, and consumer ice makers by publishing a notice of public meeting, and providing a framework document that addressed potential standards and test procedure rulemakings for these products. 77 FR 7547.

On October 31, 2013, DOE published in the Federal Register a supplemental notice of proposed determination of coverage (“SNOPD”) in which it tentatively determined that MREFs, which at the time included wine chillers, non-compressor refrigeration products, hybrid products (i.e. refrigeration products that combine a wine chiller with a refrigerator and/or freezer), and consumer ice makers, would satisfy the provisions of 42 U.S.C. 6292(b)(1). 78 FR 65223.

DOE published a notice of public meeting that also announced the availability of a preliminary technical support document (“TSD”) for MREFs on December 3, 2014 (“Preliminary Analysis”). 79 FR 71705. This preliminary analysis considered potential standards for the products proposed for coverage as MREFs in the SNOPD. DOE held a public meeting to discuss and receive comments on the preliminary analysis, which covered the analytical framework, models, and tools that DOE used to evaluate potential standards; the results of preliminary analyses performed by DOE for these products; the potential energy conservation standard levels derived from these analyses that DOE had been considering consistent with its obligations under EPCA; and all other issues raised issues that relevant to the development of energy conservation standards for the different classes of MREFs.

DOE also published a test procedure notice of proposed rulemaking (NOPR) on December 16, 2014 (“Test Procedure NOPR”), that proposed establishing definitions and test procedures for MREFs, including the product categories proposed for coverage in the SNOPD. The proposed test procedures to be included at Title 10 of the Code of Federal Regulations (CFR), part 430, subpart B, appendix A (“appendix A”) would measure the energy efficiency, energy use, and estimated annual operating cost of MREFs during a representative average use period and would not be unduly burdensome to conduct, as required under 42 U.S.C. 6293(b)(3)). 79 FR 74894.

After reviewing the comments received in response to both the Preliminary Analysis and the Test Procedure NOPR, DOE ultimately determined that its efforts at developing test procedures and potential energy conservation standards for these products would benefit from the direct and comprehensive input provided through the negotiated rulemaking process. On April 1, 2015, DOE published a notice of intent to establish a Working Group under the Appliance Standards and Rulemaking Federal Advisory Committee (“ASRAC”) that would use the negotiated rulemaking process to discuss and, if possible, reach consensus on the scope of coverage, definitions, test procedures, and proposed energy conservation standards for MREFs. 80 FR 17355. Subsequently, DOE formed a Miscellaneous Refrigeration Products Working Group (“MREF Working Group” or, in context, “the Working Group”) to address these issues. The Working Group consisted of 15 members, including two members from ASRAC and one DOE representative. The MREF Working Group met in-person during six sets of meetings held on May 4-5, June 11-12, July 15-16, August 11-12, September 16-17, and October 20.

On August 11, 2015, the MREF Working Group reached consensus on a term sheet that recommended the relevant scope of coverage, definitions, and test procedures for MREFs. See public docket EERE-2011-BT-STD-0043-0113 (“Term Sheet #1”). On October 20, 2015, the MREF Working Group reached consensus on a term sheet to recommend energy conservation standards for coolers and combination cooler refrigeration products. See public docket EERE-2011-BT-STD-0043-0111 (“Term Sheet #2”). ASRAC approved the term sheets during open meetings on December 18, 2015, and January 20, 2016, and sent them to the Secretary of Energy.

III. Scope of Coverage

As discussed in the previous section, DOE's Test Procedure NOPR and Preliminary Analysis for MREFs were consistent with the scope of coverage outlined in the SNOPD.

In response to the feedback received from interested parties on the Preliminary Analysis and Test Procedure NOPR, the MREF Working Group was tasked with recommending a scope of coverage for MREFs. To this end, the Working Group's Term Sheet recommended that DOE drop two product categories that DOE had initially included in its scope—non-compressor refrigerators and ice makers. For non-compressor refrigerators, the Working Group members were unaware of the existence of such products and concluded that the non-compressor products that do exist would be considered coolers (formerly “cooled cabinets”) under the definitions recommended by the MREF Working Group. Accordingly, it recommended dropping the non-compressor refrigerator product category since they would already be covered as coolers. For ice makers, the Working Group made two observations. First, the Working Group noted that ice makers are fundamentally different from the other product categories considered as MREFs, as emphasized by DOE's proposal to create a separate test procedure for them. Second, the Working Group noted that ice makers are currently covered as commercial equipment and there is no clear differentiation between consumer and commercial ice makers. See Term Sheet #1.

Based on feedback from interested parties and recommendations from the MREF Working Group, DOE is proposing that MREF coverage would apply only to coolers (formerly cooled cabinets) and combination cooler refrigeration products (formerly hybrid refrigeration products). DOE is also proposing definitions for these product categories.

IV. Evaluation of Miscellaneous Refrigeration Products as Covered Products

Determining whether to treat MREFs as a covered product requires satisfying certain statutory criteria. As stated in section I of this notice, DOE may classify a consumer product as a covered product if (1) classifying products of such type as covered products is necessary and appropriate to carry out the purposes of EPCA; and (2) the average annual per household energy use by products of such type is likely to exceed 100 kWh (or its Btu equivalent) per year. (42 U.S.C. 6292(b)(1)) Additionally, to set standards for any newly covered product, the average per household energy use must exceed 150 kWh (or its British thermal unit (Btu) equivalent) for any 12-month period, and the aggregate household energy use must exceed 4.2 terawatt-hours (TWh) (or its Btu equivalent) for any such 12-month period. (42 U.S.C. 6295(l)(1))

A. Coverage Necessary or Appropriate To Carry Out Purposes of EPCA

In this document, DOE has tentatively determined that the coverage of MREFs is both necessary and appropriate to carry out the purposes of EPCA. MREFs, which comprise a small but significant and growing sector of the consumer refrigeration market, consume energy generated from limited energy supplies and regulating their energy efficiency would be likely to help conserve these limited energy supplies. Accordingly, establishing standards for these products falls squarely within EPCA's purposes to: (1) Conserve energy supplies through energy conservation programs; and (2) provide for improved energy efficiency of major appliances and certain other consumer products. (42 U.S.C. 6201)

B. Energy Use Estimates

DOE estimated the average household energy use for MREFs—coolers and combination cooler refrigeration products—to determine if the average annual per-household energy use of these products exceeds the 100 kWh/yr required for coverage under EPCA. For this analysis, DOE used the SNOPD analysis as a starting point and made improvements based on more recent or newly gathered data.

1. Coolers

DOE used market data, engineering models, and feedback from manufacturers received under non-disclosure agreements and during the MREF Working Group meetings to improve the estimates of average household energy use for coolers as determined in the SNOPD.

While the SNOPD considered different product categories based on both compartment temperatures (e.g., cooler, refrigerator, or freezer) and refrigeration type (e.g., vapor-compression, thermoelectric, etc.), DOE has reorganized the analysis for consistency with the scope of coverage and product definitions recommended by the MREF Working Group, as described in sections III and VI of this notice, respectively. For coolers, the definition would incorporate products regardless of refrigeration system under the same product definition. However, to better account for the energy use characteristics of these products, the updated analysis separates coolers into four product categories based on refrigerated volume and installation type.

DOE has updated several components of its energy use estimates since the SNOPD. DOE surveyed product owners to improve its estimate of market saturation rates.³ DOE has also revised its estimates of product lifetimes based on recommendations from the MREF Working Group. Finally, DOE updated its estimates of energy consumption per unit through feedback from manufacturers, the MREF Working Group, the Association of Home Appliance Manufacturers,⁴ as well as product information available on manufacturer and retailer Web sites.

³ See J. B. Greenblatt et al. U.S. Residential Miscellaneous Refrigeration Products: Results from Amazon Mechanical Turk Surveys. 2014. Lawrence Berkeley National Laboratory: Berkeley, CA. (Report No. LBNL-6537E) and S. M. Donovan, S. J. Young and J. B. Greenblatt. Ice-Making in the U.S.: Results from an Amazon Mechanical Turk Survey. 2015. Lawrence Berkeley National Laboratory: Berkeley, CA. (Report No. LBNL-183899).

⁴ See Docket No. EERE-2011-BT-STD-0043-0106.

Table IV.1 shows the estimated annual energy use for each type of cooler. DOE found that across all cooler product types, coolers have an average lifetime of over 10 years, and an average annual energy consumption of 440 kWh per household.

Table IV.1—Coolers Estimated Annual Energy Use
| Units | Product type: Compact FS * | Product type: Compact BI * | Product type: FS * | Product type: BI * | Totals or averages
Average Energy Consumption (per unit) | kWh/year | 450 | 250 | 370 | 340 | 440
Stock | Units, 2014 | 14,500,000 | 55,000 | 610,000 | 120,000 | 15,300,000
National Energy Consumption | TWh/year | 6.5 | 0.014 | 0.23 | 0.042 | 6.8
Average Lifetime | years | 10.3 | 10.3 | 17.4 | 17.4 | 10.6
Annual Sales | Units, 2014 | 1,400,000 | 5,400 | 35,000 | 7,100 | 1,460,000
Saturation | % | 12.6 | 0.05 | 0.5 | 0.1
* FS = Freestanding, BI = Built-in.

2. Combination Cooler Refrigeration Products

DOE used market data, engineering models, and feedback from manufacturers received under non-disclosure agreements and during the MREF Working Group meetings to improve the estimates of average household energy use for combination cooler refrigeration products as determined in the SNOPD.

Similar to the updated coolers analysis in this notice, DOE revised its combination cooler refrigeration product analysis consistent with the scope of coverage and product definitions recommended by the MREF Working Group, as described in sections III and VI of this notice, respectively. The updated combination cooler refrigeration product definition removes the 50-percent cooler compartment volume requirement that was needed for a product to be considered a combination cooler refrigeration product in the SNOPD. The updated analysis reflects additional products being included under the “combination cooler refrigeration products” definition.

DOE has updated several components of its combination cooler refrigeration product energy use estimates since publication of the SNOPD. DOE updated its estimate of annual shipments based on manufacturer feedback. DOE has also revised its estimates of product lifetimes based on recommendations from the MREF Working Group. Finally, DOE updated its estimates of energy consumption per unit through manufacturer and MREF Working Group-member feedback and an examination of more recent product information available on manufacturer and retailer Web sites.

Table IV.2 shows the estimated annual energy use for each type of combination cooler refrigeration product. DOE found that across product types, these products have an average lifetime of about 12.6 years, and an average annual energy consumption of 222 kWh per household.

Table IV.2—Combination Cooler Refrigeration Products Annual Energy Use
| Units | Product type *: C3A-BI | Product type *: C9-BI | Product type *: C13A | Product type *: C13A-BI | Totals or averages
Average Energy Consumption (per unit) | kWh/year | 210 | 280 | 210 | 220 | 220
Stock | Units, 2014 | 70,000 | 70,000 | 160,000 | 120,000 | 430,000
National Energy Consumption | TWh/year | 0.015 | 0.019 | 0.035 | 0.027 | 0.095
Average Lifetime | years | 17.4 | 17.4 | 10.3 | 10.3 | 12.6
Annual Sales | Units, 2014 | 4,000 | 4,000 | 16,000 | 12,000 | 36,000
Saturation |  | 0.06% | 0.06% | 0.14% | 0.11%
Product types for combination cooler refrigeration products are based on the product class of refrigerator, refrigerator-freezer, or freezer that the product would be categorized under if it did not have a cooler compartment.

3. Conclusions

Based upon its evaluations of coolers and combination cooler refrigeration products, DOE has developed estimates of their annual energy use. These estimates indicate that these products, on average, consume significantly more than 100 kWh annually. Therefore, DOE has tentatively determined that the average annual per household energy use for MREFs is likely to exceed the 100 kWh/yr threshold set by EPCA needed to classify a product as covered. Moreover, DOE has determined that MREFs on average consume more than 150 kWh/yr, and that the aggregate annual national energy use of these products is 6.9 TWh, which exceeds the 4.2 TWh minimum threshold. Accordingly, these data indicate that MREFs appear to satisfy at least two of the four criteria required by EPCA in order to establish energy conservation standards for a product that the Secretary chooses to add for regulatory coverage. See 42 U.S.C. 6295(l)(1)(A)-(D).

V. Product Definitions

Consistent with the SNOPD, the Test Procedure NOPR laid out potential definitions for the following four product categories that DOE indicated would be considered as MREFs: Cooled cabinets, non-compressor refrigerators, hybrid refrigerators, and ice makers. DOE proposed to define “cooled cabinets” as products that maintain internal temperatures warmer than refrigerators; “non-compressor refrigerators” as products that otherwise meet the existing refrigerator definition, but do not use vapor-compression refrigeration; “hybrid refrigeration products” as products with a warm-temperature (i.e. a temperature lower than the ambient, but warmer than that which is used to safely store fresh food) compartment (e.g., a wine chiller) combined with a fresh food and/or freezer compartment, with the warm-temperature compartment comprising at least 50 percent of the product's total refrigerated volume; and “ice makers” as consumer products designed to automatically produce and harvest ice that would not be considered any of the other consumer refrigeration products (e.g., refrigerator-freezer or freezer). DOE also proposed amending the existing “refrigerator,” “refrigerator-freezer,” and “freezer” product definitions for consistency and to improve their clarity when viewed in conjunction with the proposed MREF definitions. 79 FR 74894, 74899-74904 (Dec. 16, 2014).

The MREF Working Group subsequently discussed how and whether to define the various terms related to MREFs. The Working Group ultimately reached a consensus that is reflected in Term Sheet #1's recommendations, which included dropping DOE's proposed definitions for non-compressor refrigerators and ice makers, updating the terms used to describe the covered MREF product categories based on the discussions and analyses conducted during the Working Group meetings, revising the proposed MREF product definitions, and amending the existing definitions for refrigerators, refrigerator-freezers, and freezers to ensure consistency with the recommended MREF definitions. See Term Sheet #1.

Consistent with these recommendations, DOE is proposing new or amended definitions for the relevant product definitions that would be added to the Code of Federal Regulations (CFR) at 10 CFR 430.2. DOE is proposing new definitions for MREFs to clearly delineate which products would fall within the scope of coverage for MREFs and within which MREF product categories. DOE is also proposing similar conforming amendments to the existing definitions for refrigerators, refrigerator-freezers, and freezers for consistency with the proposed MREF definitions. The proposed amendments are intended to eliminate confusion with the proposed MREF definitions, and would not affect the scope of coverage under the existing refrigerator, refrigerator-freezer, and freezer definitions, other than for those products that would be covered under DOE's proposed determination as combination cooler refrigeration products.

A. Coolers

In the Test Procedure NOPR, DOE proposed to define a “cooled cabinet” as a product operating using only electric energy input but is not a “refrigerator” because its compartment temperatures are warmer than the 39 degrees Fahrenheit (°F) threshold established for refrigerators, as determined in a 72 °F ambient temperature. 79 FR 74894, 74901-74902 (Dec. 16, 2014). This proposal was based on the premise that such a product would adequately capture items such as beverage centers and wine coolers, which typically operate above these temperatures.

The MREF Working Group term sheet (i.e., Term Sheet #1) contained a recommendation that DOE revise this term from “cooled cabinet” to “cooler” and incorporate a number of other changes to the proposed definition. The Working Group recommended that compartment temperatures be determined during operation in a 90 °F ambient temperature to maintain consistency with the test conditions used for other refrigeration products. The Working Group also recommended excluding products designed to be used without doors, consistent with the exclusions DOE had proposed for the refrigerator, refrigerator-freezer, and freezer definitions in the Test Procedure NOPR. See 79 FR 74894 at 74900 (Dec. 16, 2014). The purpose of the exclusion would be to differentiate between consumer products and commercial equipment (i.e., products designed for use without doors are commercial equipment rather than consumer products, consistent with the statutory coverage of refrigerators, refrigerator-freezers, and freezers). The Working Group further recommended the requirement that coolers operate on single-phase, alternating current rather than simply specifying operation with electric energy input. This approach would exclude those products designed for direct current or 3-phase power supplies, which would likely apply to products intended for use in mobile or commercial applications, respectively. See Term Sheet #1.

Consistent with this approach, DOE is proposing to define cooler using the definition for cooled cabinet proposed in the Test Procedure NOPR—but updated to reflect the Working Group's recommendations.

In response to the definitions proposed in the Test Procedure NOPR, Felix Storch, Inc. (“FSI”) commented that it is not aware of any non-compressor freezers, but it is aware of non-compressor refrigerators that are able to have a very small portion of their volume at a temperature cold enough to freeze ice cubes. (FSI, No. 15 at p. 1) ⁵ FSI also commented that the proposed category for non-compressor refrigerators was overly-broad. It stressed that there are two main purposes for non-compressor units: One is to serve as a low-price compact wine cellar or dormitory cooler, and the other is for use in special markets such as camping or truck refrigerators. It noted that these units should not have the same regulations as currently in effect for compressor units and instead, any thermoelectric product with a volume less than 1 cubic foot should be exempt from regulation so that these products can continue to be marketed. Also, FSI stated that DOE should exempt units without permanently attached power cords for 110-volt operation—such as car or truck refrigerators—that use a 12-volt default power cord. (FSI, No. 15 at pp. 4-5)

⁵ A notation in the form “FSI, No. 15 at p. 1” identifies a written comment: (1) Made by Felix Storch, Inc. (FSI); (2) recorded in document number 15 that is filed in the docket of the test procedure rulemaking for miscellaneous refrigeration products (Docket No. EERE-2013- BT-TP-0029) and available for review at www.regulations.gov; and (3) which appears on page 1 of document number 15.

As described in section III of this document, DOE is not proposing separate coverage for non-compressor freezers or non-compressor refrigerators as MREFs. DOE does not agree with FSI's characterization above. Further, DOE is unaware of any non-compressor products capable of maintaining refrigerator or freezer compartment temperatures as proposed in this document (i.e., the compartment temperatures determined during operation in a 90 °F ambient temperature as measured by appendix A). DOE expects that the products FSI identified as capable of freezing ice cubes do so either during operation at lower ambient temperatures or in a localized portion of the refrigerated compartment while the overall average compartment temperature would be higher than the range required to be considered a refrigerator. If true, DOE expects these products to fall under the cooler definition as proposed in this document instead of the refrigerator or freezer definitions because those products would need to be capable of achieving the compartment temperatures as measured by appendix A.

Rather, all non-compressor products would be considered coolers under the proposed definitions in this document. Further, DOE is proposing that the cooler definition include the Working Group's recommended requirement that coolers operate on single-phase, alternating current, which would exclude products designed for direct current power supplies, such as those mobile products equipped with a 12-volt power cord. DOE also notes that non-compressor refrigeration products would not be subject to the current energy conservation standards in place for refrigerators, refrigerator-freezers, or freezers because the coverage of those products applies to products equipped with a compressor and condenser-based refrigeration system.

In addition, FSI argued that absorption refrigerators should not be regulated. In its view, regulating these products may make them too expensive for hotels to afford them and leave them with no viable option. FSI also argued that the absorption refrigeration product market is so small that DOE should conduct an additional DOE survey to determine if these products have a market large enough to warrant regulation. (FSI, No. 15 at p. 5) Because DOE is no longer proposing a separate definition for non-compressor refrigerators, absorption refrigerators would not be separately regulated as non-compressor refrigerators under the proposed MREF coverage. However, they likely would fall under the proposed cooler definition, and, if so, would be subject to any future energy conservation standards established for coolers.

In addition to the cooler definition recommended in Term Sheet #1, the MREF Working Group recommended that DOE establish definitions within the cooler product category based on total refrigerated volume and installation type. The Working Group recommended a “compact” designation for products with total refrigerated volumes of less than 7.75 cubic feet. The Working Group also recommended that DOE differentiate “built-in” from “freestanding products” by using definitions based on those already in place for built-in refrigerators, refrigerator-freezers, and freezers. See Term Sheet #1.

Consistent with these recommendations, DOE is proposing definitions within the cooler definition based on refrigerated volume and configuration, consistent with the same requirements and definitions currently in place for refrigerators, refrigerator-freezers, and freezers.

B. Combination Cooler Refrigeration Products

In the Test Procedure NOPR, DOE proposed that the term “hybrid refrigeration product” would refer to products equipped with a warm-temperature compartment (e.g., a wine chiller), making up at least 50 percent of a product's volume, combined with a fresh food and/or freezer compartment. 79 FR 74894, 74903-74904 (Dec. 16, 2014).

The MREF Working Group discussed the proposed definition and recommended that DOE revise the term from “hybrid refrigeration product” to “combination cooler refrigeration product,” noting that this term more clearly describes the product category. The Working Group also recommended that DOE refer to the warmer compartment within combination cooler refrigeration products as a “cooler compartment,” defined by the same temperature ranges as recommended for coolers described in section V.A of this document. The MREF Working Group recommended that DOE remove its proposed approach, which followed DOE's guidance that cooler compartments must make up at least 50 percent of a combination cooler refrigeration product's total volume. The Working Group noted that all products with cooler compartments would likely be used in the same way, and that the 50-percent threshold was an arbitrary cutoff. The Working Group further recommended that DOE exclude products designed for use without doors from the combination cooler refrigeration product definitions for the same reasons discussed for coolers (i.e., differentiating between commercial equipment and consumer products). See Term Sheet #1.

DOE agrees with the MREF Working Group recommendations and the Working Group's reasoning behind each of them and is proposing to incorporate the suggested changes into the combination cooler refrigeration product definitions.

In response to the Test Procedure NOPR, FSI commented on the proposed definition of a hybrid product, stating that for compact units, if there is no freezer or ice cube section, then the entire product should be treated as a wine cellar. (FSI, No. 15 at p. 3) DOE notes that a product with a single compartment that is not a freezer would be classified as either a cooler or refrigerator, depending on what compartment temperatures the product maintains, rather than a combination cooler refrigeration product based on the definitions proposed in this document.

In addition to the general combination cooler refrigeration product requirements, the MREF Working Group recommended that DOE define four product categories of combination cooler refrigeration products, including: “cooler-refrigerator,” “cooler-refrigerator-freezer,” and “cooler-freezer.” The Working Group recommended definitions for these products that are consistent with the non-combination cooler product definitions (e.g., refrigerator, refrigerator-freezer, etc.) with the additional requirement that they include multiple compartments, at least one of which is a cooler compartment. The Working Group also recommended that the combination cooler refrigeration product definitions not exclude non-compressor products. See Term Sheet #1.

DOE agrees with the recommendations made by the MREF Working Group, since the four product categories offer specific and unique consumer utility. In contrast, in DOE's view, refrigeration technology (compressor-based or non-compressor) alone does not appear to offer any special utility to consumers that would affect their interaction with the product when using it for its intended purpose (e.g., cool storage of beverages). Therefore, DOE is proposing definitions for “combination cooler refrigeration product,” “cooler-refrigerator,” “cooler-refrigerator-freezer,” and “cooler-freezer” consistent with the definitions recommended in the Working Group's term sheet. Although DOE is not currently aware of any non-compressor combination cooler refrigeration products currently available on the market, DOE is proposing that non-compressor products would be covered under the combination cooler refrigeration product definitions to ensure that if any become available on the market in the future, they would be considered covered products, consistent with the Working Group's recommendation.

In this document, DOE also refers to the term “cooler compartment.” DOE intends to define this term as part of the separate MREF test procedure rulemaking.

C. Refrigerators, Refrigerator Freezers, and Freezers

As discussed in the Test Procedure NOPR, DOE proposed amendments to the refrigerator, refrigerator-freezer, and freezer product definitions to create a consistent structure with the proposed MREF definitions and to improve the clarity of the distinctions among the different definitions. 79 FR 74894, 74899-74901 (Dec. 16, 2014). DOE did not propose to redefine the scope of coverage for refrigerators, refrigerator-freezers, and freezers, or to amend the definitions in a manner that would affect how a currently covered product would be classified (other than for coverage of combination cooler refrigeration products as MREFs). The proposed amendments to the definitions for these products would establish consistency with the proposed MREF definitions and were intended to improve the definitions' clarity and ensure no potential overlap between the definitions of these products and MREFs.

In response to the Test Procedure NOPR, FSI commented that it would remove confusion to categorize all-refrigerators with absolutely no freezer compartments as cooled cabinets. (FSI, No. 15 at pp. 2-3) Based on the proposed definitions for coolers discussed in section V.A of this notice, and the proposed definition of refrigerator described below, DOE notes that a product without a freezer compartment would be classified as either a cooler or refrigerator based on its compartment operating temperature. Because refrigerators and coolers offer different product utilities (i.e., different storage temperatures) that affect energy consumption, DOE believes separate product definitions and coverage are appropriate.

FSI also commented that the definition for a refrigerator should be changed to “all-refrigerator” to specify that the product has no freezer compartment and the definition for refrigerator-freezer should be “any cabinet that has a separate compartment for fresh food (39 °F or colder) and frozen food or ice, whether or not there is a single door or multiple doors.” (FSI, No. 15 at pp.4-5) As described earlier in this section, the proposed amendments to the refrigerator, refrigerator-freezer, and freezer definitions were not intended to change the scope of coverage for those products, other than for combination cooler refrigeration products, but were intended to improve clarity. The recommended amendment would have the potential to change the classification of certain other products currently covered as refrigerators.

The MREF Working Group generally agreed with the revisions proposed in the Test Procedure NOPR, but recommended that compartment temperatures be determined during operation in a 90 °F ambient instead of 72 °F, as discussed for coolers in section V.A of this notice. The Working Group also recommended that DOE remove the proposed exclusion for products certified to American National Standards Institute (ANSI)/NSF International (NSF) 7-2009 International Standard for Food Equipment—Commercial Refrigerators and Freezers or ANSI/UL LLC (UL) 471-2006 Standard for Commercial Refrigerators and Freezers, noting that these certifications do not necessarily provide a clear distinction between consumer and commercial products. See Term Sheet #1.

After further examining this issue, DOE is proposing the following changes to the existing definitions for refrigerator, refrigerator-freezer, and freezer.

First, DOE is proposing to revise the current definitions for “refrigerator” and “refrigerator-freezer” and to eliminate the redundant terms “electric refrigerator” and “electric refrigerator-freezer” from 10 CFR 430.2.

Second, DOE is proposing to remove the phrase, “designed to be capable of achieving [the specified temperature],” with “capable of maintaining compartment temperatures at [the specified temperature],” and that this temperature condition would be based on operation in a 90 °F ambient temperature. As described in the Test Procedure NOPR, this change would help ensure that product classification would be definitively determined through testing and would rely on the product's actual capability to serve its intended purpose rather than relying on the design intent of the manufacturer.

Third, DOE is proposing to remove the current reference to the “storage of food” and “freezing and storage of food” from the product definitions to ensure accurate product classification and more effective enforcement of energy conservation standards. Similarly, and consistent with the proposed change described in the previous paragraph, DOE is proposing to amend the references to freezer compartments within the refrigerator and refrigerator-freezer definitions. The current definitions describe a freezer compartment as a compartment designed for the freezing and storage of food at temperatures below 8 °F which may be adjusted by the user to a temperature of 0 °F or below. DOE is proposing to amend the definitions to refer only to a compartment capable of maintaining compartment temperatures of 0 °F or below to limit any ambiguity regarding what would be considered a freezer compartment. DOE notes that the MREF Working Group's definitions recommended in Term Sheet #1 included the reference to 8 °F; however, DOE expects that its proposal to eliminate this reference is consistent with the Working Group's intent for the product definitions.

Fourth, DOE is proposing to treat products designed to be used without doors, and/or that do not include a compressor and condenser unit as an integral part of the cabinet assembly, as commercial equipment and, therefore, would be excluded from these product definitions. As discussed in section V.A of this notice for coolers, the exclusion for products designed to be used without doors is intended to differentiate between consumer products and commercial equipment (i.e., products designed to be used without doors would be commercial). DOE's proposed approach would clarify that products without a compressor and condenser unit would be excluded from the refrigerator, refrigerator-freezer, and freezer definitions because this exclusion is included in the EPCA provisions that establish coverage for these products. (42 U.S.C. 6292(a)(1))

Finally, DOE notes that the definition for refrigerator-freezer requires that at least one compartment has attributes consistent with a fresh food compartment and that at least one compartment has attributes consistent with a freezer compartment. DOE is proposing to clarify that the same compartment could not satisfy both of these requirements in a refrigerator-freezer.

Similar to the intent of the Test Procedure NOPR, with the exception of those products that would be covered as combination cooler refrigeration products under this proposal, DOE is not proposing to redefine the scope of coverage for refrigerators, refrigerator-freezers, and freezers, or to amend the definitions in a manner that would affect how a currently covered product would be classified. The proposed amendments to the definitions for these products would establish a similar structure with the proposed MREF definitions. The proposed definitions are intended to improve clarity and ensure no potential overlap between the definitions of refrigerators, refrigerator-freezers, and freezers, and MREFs.

D. General Terms for the Groups of Products Addressed in This Document

In the Test Procedure NOPR, DOE proposed to define “miscellaneous refrigeration product” as a consumer refrigeration product other than a refrigerator, refrigerator-freezer, or freezer, which includes hybrid refrigeration products, cooled cabinets, non-compressor refrigerators, and ice makers. DOE also proposed to define “consumer refrigeration product” as a refrigerator, refrigerator-freezer, freezer, or miscellaneous refrigeration product. 79 FR 74894, 74904 (Dec. 16, 2014).

FSI stated that DOE could easily clarify a consumer refrigeration product based on the norms it can easily verify, such as the fact 90 percent of the refrigerator-freezers sold in the U.S. have a volume of 14 cubic feet or more, with the remainder mostly made up of dormitory (5 percent) or apartment (4 percent) sizes. It stated that a simple definition would allow DOE to cover 98 to 99 percent of the market and allow special markets to have suitable products. (FSI, No. 15 at p. 1)

DOE notes that its definitions are intended to provide clear differentiation while avoiding subjective determinations for what would be covered. Although the product types mentioned in the FSI comment make up most of the consumer refrigeration market, there are no established definitions for each subset of products that would fall under the proposed consumer refrigeration product definition, leaving DOE in the position of developing more specific definitions. DOE has already established detailed definitions to address refrigerators, refrigerator-freezers, and freezers, and is proposing additional definitions for coolers and combination cooler refrigeration products. DOE is proposing to refer to these products collectively as consumer refrigeration products.

The MREF Working Group recommended that DOE maintain the definitions for miscellaneous refrigeration product and consumer refrigeration product, but to update them to reflect the more current product terminology and to remove references to non-compressor refrigerators and ice makers. See Term Sheet #1.

DOE is proposing to define the terms “miscellaneous refrigeration product” and “consumer refrigeration product” consistent with the recommended updates from the MREF Working Group. In DOE's view, these proposed changes will better reflect the recommended approach detailed in the Working Group's recommendations to help ensure their clarity with respect to the other proposed definitions discussed in this document.

VI. Procedural Issues and Regulatory Review

DOE has reviewed its supplemental proposed determination of coverage for MREFs under the following executive orders and acts.

A. Review Under Executive Order 12866

The Office of Management and Budget (OMB) has determined that coverage determination rulemakings do not constitute “significant regulatory actions” under section 3(f) of Executive Order 12866, Regulatory Planning and Review, 58 FR 51735 (Oct. 4, 1993). Additionally, the definitions proposed in this document would clarify the definitions of certain specific products already regulated by DOE and those products that are under consideration for potential regulatory coverage. No new requirements would result from the proposals contained in this document. Accordingly, this proposed action was not subject to review under the Executive Order by the Office of Information and Regulatory Affairs (OIRA) in the OMB.

B. Review Under the Regulatory Flexibility Act

The Regulatory Flexibility Act (5 U.S.C. 601 et seq., as amended by the Small Business Regulatory Enforcement Fairness Act of 1996) requires preparation of a regulatory flexibility analysis for any rule that, by law, must be proposed for public comment, unless the agency certifies that the rule, if promulgated, will not have a significant economic impact on a substantial number of small entities. A regulatory flexibility analysis examines the impact of the rule on small entities and considers alternative ways of reducing negative effects. Also, as required by E.O. 13272, “Proper Consideration of Small Entities in Agency Rulemaking” 67 FR 53461 (Aug. 16, 2002), DOE published procedures and policies on February 19, 2003 to ensure that the potential impact of its rules on small entities are properly considered during the DOE rulemaking process. 68 FR 7990 (Feb. 19, 2003). DOE makes its procedures and policies available on the Office of the General Counsel's Web site at http://energy.gov/gc/office-general-counsel.

DOE reviewed this proposed determination and proposal under the provisions of the Regulatory Flexibility Act and the policies and procedures published on February 19, 2003. If adopted, this proposed determination and proposal would set no standards; it would only positively determine that future standards may be warranted and should be explored in an energy conservation standards and test procedure rulemaking. Economic impacts on small entities would be considered in the context of such rulemakings. On the basis of the foregoing, DOE certifies that the proposed determination, if adopted, has no significant economic impact on a substantial number of small entities. Accordingly, DOE has not prepared a regulatory flexibility analysis for this proposed determination and proposal. DOE will transmit this certification and supporting statement of factual basis to the Chief Counsel for Advocacy of the Small Business Administration for review under 5 U.S.C. 605(b).

C. Review Under the Paperwork Reduction Act of 1995

This proposed determination that MREFs meet the criteria for a covered product for which the Secretary may prescribe an energy conservation standard, pursuant to 42 U.S.C. 6295(o) and (p), imposes no new information or record-keeping requirements. Neither would any aspect of the proposal impose such requirements. Accordingly, OMB clearance is not required under the Paperwork Reduction Act. (44 U.S.C. 3501 et seq.)

D. Review Under the National Environmental Policy Act of 1969

In this notice, DOE proposes to positively determine that MREFs (as proposed to be defined in this document) meet the criteria for classification as covered products and that future energy conservation standards may be warranted to regulate their energy usage. Should DOE pursue that option, the relevant environmental impacts would be explored as part of that rulemaking. As a result, DOE has determined that this proposed action falls into a class of actions that are categorically excluded from review under the National Environmental Policy Act of 1969 (42 U.S.C. 4321 et seq.) and DOE's implementing regulations at 10 CFR part 1021. Specifically, this proposed action would establish a class of products (MREFs) for which energy conservation standards would be appropriate. However, this proposed action would not establish energy conservation standards, and, therefore, would not result in any environmental impacts. Thus, this action is covered by Categorical Exclusion A6 “Procedural rulemakings” under 10 CFR part 1021, subpart D. Accordingly, neither an environmental assessment nor an environmental impact statement is required.

E. Review Under Executive Order 13132

Executive Order (E.O.) 13132, “Federalism” 64 FR 43255 (Aug. 10, 1999), imposes certain requirements on agencies formulating and implementing policies or regulations that preempt State law or that have Federalism implications. The Executive Order requires agencies to examine the constitutional and statutory authority supporting any action that would limit the policymaking discretion of the States and to assess carefully the necessity for such actions. The Executive Order also requires agencies to have an accountable process to ensure meaningful and timely input by State and local officials in developing regulatory policies that have Federalism implications. On March 14, 2000, DOE published a statement of policy describing the intergovernmental consultation process that it will follow in developing such regulations. 65 FR 13735 (Mar. 14, 2000). DOE has examined this proposed determination and proposal. On the basis of this examination, DOE concludes that the action proposed in this document would not preempt State law or have substantial direct effects on the States, on the relationship between the Federal government and the States, or on the distribution of power and responsibilities among the various levels of government. EPCA governs and prescribes Federal preemption of State regulations as to energy conservation for the product that is the subject of this proposed determination and proposal. States can petition DOE for exemption from such preemption to the extent permitted, and based on criteria, set forth in EPCA. (42 U.S.C. 6297) No further action is required by E.O. 13132.

F. Review Under Executive Order 12988

With respect to the review of existing regulations and the promulgation of new regulations, section 3(a) of E.O. 12988, “Civil Justice Reform” 61 FR 4729 (Feb. 7, 1996), imposes on Federal agencies the duty to: (1) Eliminate drafting errors and ambiguity; (2) write regulations to minimize litigation; (3) provide a clear legal standard for affected conduct rather than a general standard; and (4) promote simplification and burden reduction. Section 3(b) of E.O. 12988 specifically requires that Executive agencies make every reasonable effort to ensure that the regulation specifies the following: (1) The preemptive effect, if any; (2) any effect on existing Federal law or regulation; (3) a clear legal standard for affected conduct while promoting simplification and burden reduction; (4) the retroactive effect, if any; (5) definitions of key terms; and (6) other important issues affecting clarity and general draftsmanship under any guidelines issued by the Attorney General. Section 3(c) of E.O. 12988 requires Executive agencies to review regulations in light of applicable standards in sections 3(a) and 3(b) to determine whether these standards are met, or whether it is unreasonable to meet one or more of them. DOE completed the required review and determined that, to the extent permitted by law, this proposed determination and proposal meet the relevant standards of E.O. 12988.

G. Review Under the Unfunded Mandates Reform Act of 1995

Title II of the Unfunded Mandates Reform Act of 1995 (UMRA) (Pub. L. 104-4, codified at 2 U.S.C. 1501 et seq.) requires each Federal agency to assess the effects of Federal regulatory actions on State, local, and tribal governments and the private sector. For regulatory actions likely to result in a rule that may cause expenditures by State, local, and Tribal governments, in the aggregate, or by the private sector of $100 million or more in any 1 year (adjusted annually for inflation), section 202 of UMRA requires a Federal agency to publish a written statement that estimates the resulting costs, benefits, and other effects on the national economy. (2 U.S.C. 1532(a) and (b)) UMRA requires a Federal agency to develop an effective process to permit timely input by elected officers of State, local, and tribal governments on a proposed “significant intergovernmental mandate.” UMRA also requires an agency plan for giving notice and opportunity for timely input to small governments that may be potentially affected before establishing any requirement that might significantly or uniquely affect them. On March 18, 1997, DOE published a statement of policy on its process for intergovernmental consultation under UMRA. 62 FR 12820 (Mar. 18, 1997). (This policy also is available at http://energy.gov/gc/office-general-counsel). DOE reviewed this proposed determination pursuant to these existing authorities and its policy statement and determined that the proposed determination and proposal contain neither an intergovernmental mandate nor a mandate that may result in the expenditure of $100 million or more in any year, so the UMRA requirements do not apply.

H. Review Under the Treasury and General Government Appropriations Act of 1999

Section 654 of the Treasury and General Government Appropriations Act of 1999 (Pub. L. 105-277) requires Federal agencies to issue a Family Policymaking Assessment for any rule that may affect family well-being. This proposed determination and proposal would not have any impact on the autonomy or integrity of the family as an institution. Accordingly, DOE has concluded that it is not necessary to prepare a Family Policymaking Assessment.

I. Review Under Executive Order 12630

Pursuant to E.O. 12630, “Governmental Actions and Interference with Constitutionally Protected Property Rights” 53 FR 8859 (Mar. 15, 1988), DOE determined that this proposed determination and proposal would not result in any takings that might require compensation under the Fifth Amendment to the U.S. Constitution.

J. Review Under the Treasury and General Government Appropriations Act of 2001

The Treasury and General Government Appropriation Act of 2001 (44 U.S.C. 3516, note) requires agencies to review most disseminations of information they make to the public under guidelines established by each agency pursuant to general guidelines issued by the OMB. The OMB's guidelines were published at 67 FR 8452 (Feb. 22, 2002), and DOE's guidelines were published at 67 FR 62446 (Oct. 7, 2002). DOE has reviewed this proposed determination and proposal under the OMB and DOE guidelines and has concluded that they are consistent with applicable policies in those guidelines.

K. Review Under Executive Order 13211

E.O. 13211, “Actions Concerning Regulations That Significantly Affect Energy Supply, Distribution, or Use,” 66 FR 28355 (May 22, 2001), requires Federal agencies to prepare and submit to OMB a Statement of Energy Effects for any proposed significant energy action. A “significant energy action” is defined as any action by an agency that promulgates a final rule or is expected to lead to promulgation of a final rule, and that: (1) Is a significant regulatory action under E.O. 12866, or any successor order; and (2) is likely to have a significant adverse effect on the supply, distribution, or use of energy; or (3) is designated by the Administrator of the Office of Information and Regulatory Affairs (OIRA) as a significant energy action. For any proposed significant energy action, the agency must give a detailed statement of any adverse effects on energy supply, distribution, or use if the proposal is implemented, and of reasonable alternatives to the proposed action and their expected benefits on energy supply, distribution, and use.

DOE has concluded that this regulatory action proposing to establish or amend certain definitions and to determine that MREFs meet the criteria for a covered product for which the Secretary may prescribe an energy conservation standard pursuant to 42 U.S.C. 6295(o) and (p) would not have a significant adverse effect on the supply, distribution, or use of energy. This action is also not a significant regulatory action for purposes of E.O. 12866, and the OIRA Administrator has not designated this determination as a significant energy action under E.O. 12866 or any successor order. Therefore, this proposed determination and proposal do not comprise a significant energy action. Accordingly, DOE has not prepared a Statement of Energy Effects.

L. Review Under the Information Quality Bulletin for Peer Review

On December 16, 2004, OMB, in consultation with the Office of Science and Technology Policy (OSTP), issued its Final Information Quality Bulletin for Peer Review (the Bulletin). 70 FR 2664 (Jan. 14, 2005). The Bulletin establishes that certain scientific information shall be peer reviewed by qualified specialists before it is disseminated by the Federal government, including influential scientific information related to agency regulatory actions. The purpose of the Bulletin is to enhance the quality and credibility of the Government's scientific information. DOE has determined that the analyses conducted for the regulatory action discussed in this document do not constitute “influential scientific information,” which the Bulletin defines as “scientific information the agency reasonably can determine will have or does have a clear and substantial impact on important public policies or private sector decisions.” 70 FR 2667 (Jan. 14, 2005). The analyses were subject to pre-dissemination review prior to issuance of this rulemaking.

DOE will determine the appropriate level of review that would apply to any future rulemaking to establish energy conservation standards for MREFs.

VII. Public Participation

A. Submission of Comments

DOE will accept comments, data, and information regarding this notice of proposed determination no later than the date provided at the beginning of this notice. After the close of the comment period, DOE will review the comments received and determine whether miscellaneous refrigeration products are covered products under EPCA.

Comments, data, and information submitted to DOE's email address for this proposed determination should be provided in WordPerfect, Microsoft Word, PDF, or text (ASCII) file format. Submissions should avoid the use of special characters or any form of encryption, and wherever possible comments should include the electronic signature of the author. No telefacsimiles (faxes) will be accepted.

According to 10 CFR part 1004.11, any person submitting information that he or she believes to be confidential and exempt by law from public disclosure should submit two copies: One copy of the document should have all the information believed to be confidential deleted. DOE will make its own determination as to the confidential status of the information and treat it according to its determination.

Factors of interest to DOE when evaluating requests to treat submitted information as confidential include (1) a description of the items; (2) whether and why such items are customarily treated as confidential within the industry; (3) whether the information is generally known or available from public sources; (4) whether the information has previously been made available to others without obligations concerning its confidentiality; (5) an explanation of the competitive injury to the submitting persons which would result from public disclosure; (6) a date after which such information might no longer be considered confidential; and (7) why disclosure of the information would be contrary to the public interest.

B. Issues on Which DOE Seeks Comments

DOE welcomes comments on all aspects of this proposed determination. DOE is particularly interested in receiving comments from interested parties on the following issues related to the proposed determination for MREFs detailed in this document:

(1) The proposed scope of coverage for MREFs;

(2) The proposed definitions for MREFs and the various individual product categories;

(3) The calculations and accompanying values for household and national energy consumption of the products that would be covered on which DOE is relying in determining coverage; and

(4) The availability or lack of availability of technologies for improving the energy efficiency of MREFs as DOE is proposing to define them.

The Department is interested in receiving views concerning other relevant issues that participants believe would affect DOE's ability to establish test procedures and energy conservation standards for miscellaneous refrigeration products. The Department invites all interested parties to submit in writing by April 4, 2016, comments and information on matters addressed in this notice and on other matters relevant to consideration of a determination for miscellaneous refrigeration products.

After the expiration of the period for submitting written statements, the Department will consider all comments and additional information that is obtained from interested parties or through further analyses, and it will prepare a final determination. If DOE determines that MREFs qualify as covered products, DOE will consider the development of a test procedure and energy conservation standards for MREFs. In this regard, DOE notes that it has already proposed a test procedure that would address these products and completed a substantial amount of work related to potential energy conservation standards for them. Members of the public will be given an opportunity to submit written and oral comments on any proposed test procedure and standards.

List of Subjects in 10 CFR Part 430

Administrative practice and procedure, Confidential business information, Energy conservation, Reporting and recordkeeping requirements.

Issued in Washington, DC, on February 26, 2016.
David T. Danielson,
Assistant Secretary, Energy Efficiency and Renewable Energy.

For the reasons stated in the preamble, DOE proposes to amend part 430 of chapter II of title 10, Code of Federal Regulations as set forth below:

PART 430—ENERGY CONSERVATION PROGRAM FOR CONSUMER PRODUCTS

1. The authority citation for part 430 continues to read as follows:

Authority: 42 U.S.C. 6291-6309; 28 U.S.C. 2461 note.

2. Amend § 430.2 by:

a. Adding, in alphabetical order, definitions for “built-in compact cooler,” “built-in cooler,” “combination cooler refrigeration product,” “consumer refrigeration product,” “cooler,” “cooler-freezer,” “cooler-refrigerator,” “cooler-refrigerator-freezer,” “freestanding compact cooler,” “freestanding cooler,” and “miscellaneous refrigeration product”;

b. Revising the definitions for “freezer,” “refrigerator,” and “refrigerator-freezer”; and

c. Removing the definitions for “electric refrigerator” and “electric refrigerator-freezer.”

The additions and revisions read as follows:

§ 430.2 Definitions.

* * * * *

Built-in compact cooler means any cooler with a total refrigerated volume less than 7.75 cubic feet and no more than 24 inches in depth, excluding doors, handles, and custom front panels, that is designed, intended, and marketed exclusively to be:

(1) Installed totally encased by cabinetry or panels that are attached during installation;

(2) Securely fastened to adjacent cabinetry, walls or floor,

(3) Equipped with unfinished sides that are not visible after installation, and

(4) Equipped with an integral factory-finished face or built to accept a custom front panel.

Built-in cooler means any cooler with a total refrigerated volume of 7.75 cubic feet or greater and no more than 24 inches in depth, excluding doors, handles, and custom front panels; that is designed, intended, and marketed exclusively to be:

(1) Installed totally encased by cabinetry or panels that are attached during installation;

(2) Securely fastened to adjacent cabinetry, walls or floor;

(3) Equipped with unfinished sides that are not visible after installation; and

(4) Equipped with an integral factory-finished face or built to accept a custom front panel.

* * * * *

Combination cooler refrigeration product means any cooler-refrigerator, cooler-refrigerator-freezer, or cooler-freezer.

* * * * *

Consumer refrigeration product means a refrigerator, refrigerator-freezer, freezer, or miscellaneous refrigeration product.

* * * * *

Cooler means a cabinet, used with one or more doors, that has a source of refrigeration capable of operating on single-phase, alternating current and is capable of maintaining compartment temperatures either:

(1) No lower than 39 °F (3.9 °C), or

(2) In a range that extends no lower than 37 °F (2.8 °C) but at least as high as 60 °F (15.6 °C) as determined according to the applicable provisions in § 429.61(d)(2) [proposed at 79 FR 74894 (December 16, 2014)].

Cooler-freezer is a cabinet, used with one or more doors, that has a source of refrigeration that requires single-phase, alternating current electric energy input only, and consists of two or more compartments, including at least one cooler compartment as defined in appendix A of subpart B of this part, where the remaining compartment(s) are capable of maintaining compartment temperatures at 0 °F (-17.8 °C) or below as determined according to the provisions in § 429.61(d)(2) [proposed at 79 FR 74894 (December 16, 2014)].

Cooler-refrigerator is a cabinet, used with one or more doors, that has a source of refrigeration that requires single-phase, alternating current electric energy input only, and consists of two or more compartments, including at least one cooler compartment as defined in appendix A of subpart B of this part, where:

(1) At least one of the remaining compartments is capable of maintaining compartment temperatures above 32 °F (0 °C) and below 39 °F (3.9 °C) as determined according to § 429.61(d)(2) [proposed at 79 FR 74894 (December 16, 2014)];

(2) The cabinet may also include a compartment capable of maintaining compartment temperatures below 32 °F (0 °C) as determined according to § 429.61(d)(2) [proposed at 79 FR 74894 (December 16, 2014)]; but

(3) The cabinet does not provide a separate low temperature compartment capable of maintaining compartment temperatures below 0 °F (−13.3 °C) as determined according to § 429.61(d)(2) [proposed at 79 FR 74894 (December 16, 2014)].

Cooler-refrigerator-freezer is a cabinet, used with one or more doors, that has a source of refrigeration that requires single-phase, alternating current electric energy input only, and consists of three or more compartments, including at least one cooler compartment as defined in appendix A of subpart B of this part, where:

(1) At least one of the remaining compartments is capable of maintaining compartment temperatures above 32 °F (0 °C) and below 39 °F (3.9 °C) as determined according § 429.61(d)(2) [proposed at 79 FR 74894 (December 16, 2014)], and

(2) At least one other compartment is capable of maintaining compartment temperatures of 0 °F (−17.8 °C) or below as determined according to § 429.61(d)(2) [proposed at 79 FR 74894 (December 16, 2014)].

* * * * *

Freestanding compact cooler means any cooler, excluding built-in compact coolers, with a total refrigerated volume less than 7.75 cubic feet.

Freestanding cooler means any cooler, excluding built-in coolers, with a total refrigerated volume of 7.75 cubic feet or greater.

Freezer means a cabinet, used with one or more doors, that has a source of refrigeration that requires single-phase, alternating current electric energy input only and is capable of maintaining compartment temperatures of 0 °F (−17.8 °C) or below as determined according to the provisions in § 429.14(d)(2) [proposed at 79 FR 74894 (December 16, 2014)]. It does not include any refrigerated cabinet that consists solely of an automatic ice maker and an ice storage bin arranged so that operation of the automatic icemaker fills the bin to its capacity. However, the term does not include any product that does not include a compressor and condenser unit as an integral part of the cabinet assembly.

* * * * *

Miscellaneous refrigeration product means a consumer refrigeration product other than a refrigerator, refrigerator-freezer, or freezer, which includes coolers and combination cooler refrigeration products.

* * * * *

Refrigerator means a cabinet, used with one or more doors, that has a source of refrigeration that requires single-phase, alternating current electric energy input only and is capable of maintaining compartment temperatures above 32 °F (0 °C) and below 39 °F (3.9 °C) as determined according to § 429.14(d)(2) [proposed at 79 FR 74894 (December 16, 2014)]. A refrigerator may include a compartment capable of maintaining compartment temperatures below 32 °F (0 °C), but does not provide a separate low temperature compartment capable of maintaining compartment temperatures below 0 °F (−13.3 °C) as determined according to § 429.14(d)(2) [proposed at 79 FR 74894 (December 16, 2014)]. However, the term does not include any product that does not include a compressor and condenser unit as an integral part of the cabinet assembly.

Refrigerator-freezer means a cabinet, used with one or more doors, that has a source of refrigeration that requires single-phase, alternating current electric energy input only and consists of two or more compartments where at least one of the compartments is capable of maintaining compartment temperatures above 32 °F (0 °C) and below 39 °F (3.9 °C) as determined according to § 429.14(d)(2) [proposed at 79 FR 74894 (December 16, 2014)], and at least one other compartment is capable of maintaining compartment temperatures of 0 °F (−17.8 °C) or below as determined according to § 429.14(d)(2) [proposed at 79 FR 74894 (December 16, 2014)]. However, the term does not include any cabinet that does not include a compressor and condenser unit as an integral part of the cabinet assembly.

* * * * *

[FR Doc. 2016-04874 Filed 3-3-16; 8:45 am]

BILLING CODE 6450-01-P